DEPARTMENT OF DEFENSE

Department of the Army

Record of Decision for the Conversion of an Armor Brigade Combat Team to a Stryker Brigade Combat Team at Fort Carson, CO

AGENCY: Department of the Army, DOD.

ACTION: Notice; correction.

SUMMARY: The notice of a Record of Decision published in the Federal Register on January 30, 2014 (79 FR 4892) had an error for the email address listed under the FOR FURTHER INFORMATION CONTACT section. The email address is: USARMY.JBSA.AEC.MBX@mail.mil

FOR FURTHER INFORMATION CONTACT: Public Affairs Office, U.S. Army Environmental Command, at (210) 466-1590 or email USARMY.JBSA.AEC.MBX@mail.mil.

SUPPLEMENTARY INFORMATION: None.

Brenda S. Bowen,
Army Federal Register Liaison Officer.

[FR Doc. 2014-02533 Filed 2-5-14; 8:45 am]

BILLING CODE 3710-08-P